DEPARTMENT OF DEFENSE

Office of the Secretary

Defense Science Board

AGENCY: Department of Defense (DoD).

ACTION: Notice of Advisory Committee Meeting.

SUMMARY: The Defense Science Board Task Force on Intelligence Needs for Homeland Defense Follow-On Initiative will meet in closed session on April 11, 2001, at Lost Alamos National Laboratory, Albuquerque, NM, April 12-13, 2001, at Sandia National Laboratory, Albuquerque, NM. This Task Force will explore the intelligence ramifications posed by a changing spectrum of threat regimes, including biological, chemical, information, nuclear, and radiological weapons.

The mission of the Defense Science Board is to advise the Secretary of Defense and the Under Secretary of Defense for Acquisition, Technology & Logistics on scientific and technical matters as they affect the perceived needs of the Department of Defense. At this meeting, the Defense Science Board Task Force will: consider the broad spectrum of intelligence issues from early threat detection to deterrence, through response including attribution; evaluate the collection and analysis of target-related information and weapon unique information; examine the role of HUMINT against these missions as well as the technology that the HUMINT collectors need to be equipped with; consider strategic indications and warning and tactical warning dissemination and how the two need to be merged; analyze methodology to correlate large data flows spatially, temporally, and functionally (Low SNR); and assess the robustness of today's intelligence apparatus for coping with these challenges.

In accordance with Section 10(d) of the Federal Advisory Committee Act, Pub. L. No. 92-463, as amended (5 U.S.C., App. II), it has been determined that this Defense Science Board meeting, concerns matters listed in 5 U.S.C. 552b(c)(1), and that accordingly these meetings will be closed to the public.

Due to critical mission requirements and scheduling conflicts, there is insufficient time to provide timely notice required by Section 10(a)(2) of the Federal Advisory Committee Act and Subsection 101-6.1015(b) of the GSA Final Rule on Federal Advisory Committee Management, 41 CFR part 101-6, which further requires publication at least 15 calendar days prior to the meeting of the Task Force.

Dated: March 30, 2001.
L.M. Bynum,
Alternate OSD Federal Register Liaison Officer, Department of Defense.

[FR Doc. 01-8397 Filed 4-4-01; 8:45 am]

BILLING CODE 5001-10-M